ENVIRONMENTAL PROTECTION AGENCY

[FRL-10620-01-OMS]

Privacy Act of 1974; System of Records

AGENCY: Office of Inspector General, Environmental Protection Agency (EPA).

ACTION: Notice of a new system of records.

SUMMARY: The U.S. Environmental Protection Agency's (EPA) Office of Inspector General (OIG) is giving notice that it proposes to create a new a system of records pursuant to the provisions of the Privacy Act of 1974. OIG Data Analytics Enterprise is being created to store and maintain records collected by EPA OIG that are necessary in order to fulfill the responsibilities of the Inspector General Act of 1978, as amended. The EPA OIG will use this system of records to develop data models and analytical assessments that will assist with the performance of audits, evaluations, investigations, and reviews in order to identify fraud, waste, mismanagement, and abuse relating to the programs and operations of the EPA.

DATES: Persons wishing to comment on this system of records notice must do so by December 8, 2023. Routine uses for this new system of records will be effective December 8, 2023.

ADDRESSES: Submit your comments, identified by Docket ID No. EPA-HQ-OMS-2023-0020, by one of the following methods:

Federal eRulemaking Portal: https://www.regulations.gov. Follow the online instructions for submitting comments.

Email: docket_oms@epa.gov. Include the Docket ID number in the subject line of the message.

Fax: (202) 566-1752.

Mail: OMS Docket, Environmental Protection Agency, Mail Code: 2822T, 1200 Pennsylvania Ave. NW, Washington, DC 20460.

Hand Delivery: OMS Docket, EPA/DC, WJC West Building, Room 3334, 1301 Constitution Ave. NW, Washington, DC 20460. Such deliveries are only accepted during the Docket's normal hours of operation, and special arrangements should be made for deliveries of boxed information.

Instructions: Direct your comments to Docket ID No. EPA-HQ-OMS-2023-0020. The EPA's policy is that all comments received will be included in the public docket without change and may be made available online at https://www.regulations.gov, including any personal information provided, unless the comment includes information claimed to be Controlled Unclassified Information (CUI) or other information for which disclosure is restricted by statute. Do not submit information that you consider to be CUI or otherwise protected through https://www.regulations.gov. The https://www.regulations.gov website is an “anonymous access” system for the EPA, which means the EPA will not know your identity or contact information. If you submit an electronic comment, the EPA recommends that you include your name and other contact information in the body of your comment. If the EPA cannot read your comment due to technical difficulties and cannot contact you for clarification, the EPA may not be able to consider your comment. If you send an email comment directly to the EPA without going through https://www.regulations.gov, your email address will be automatically captured and included as part of the comment that is placed in the public docket and made available on the internet. Electronic files should avoid the use of special characters, any form of encryption, and be free of any defects or viruses. For additional information about the EPA public docket, visit the EPA Docket Center homepage at https://www.epa.gov/dockets.

Docket: All documents in the docket are listed in the https://www.regulations.gov index. Although listed in the index, some information is not publicly available, e.g., CUI or other information for which disclosure is restricted by statute. Certain other material, such as copyrighted material, will be publicly available only in hard copy. Publicly available docket materials are available either electronically in https://www.regulations.gov or in hard copy at the OMS Docket, EPA/DC, WJC West Building, Room 3334, 1301 Constitution Ave. NW, Washington, DC 20460. The Public Reading Room is normally open from 8:30 a.m. to 4:30 p.m., Monday through Friday excluding legal holidays. The telephone number for the Public Reading Room is (202) 566-1744, and the telephone number for the OMS Docket is (202) 566-1752. Further information about EPA Docket Center services and current operating status is available at https://www.epa.gov/dockets.

FOR FURTHER INFORMATION CONTACT: Daniel Porter, Director, Data Analytics Directorate, Office of Inspector General, Environmental Protection Agency, 1200 Pennsylvania Avenue NW, Washington, DC 20004; phone number: 202-309-6449; email: oig.data_analytics@epa.gov.

SUPPLEMENTARY INFORMATION: The EPA OIG will use this system of records to develop data models and analyses in order to identify fraud, waste and abuse, and programmatic problems and deficiencies. This system of records will allow the EPA OIG to identify correlations between existing EPA data sets and other government agency data sets to identify patterns and correlations that indicate fraud and issues of program waste and abuse. EPA OIG will apply analytics and data modeling principles within this system of records to identify problems or failures in the implementation or performance of internal controls within the EPA. EPA will separately add exemptions for this system of records to the Agency's Privacy Act regulations at 40 CFR part 16.

SYSTEM NAME AND NUMBER:

OIG Data Analytics Enterprise, EPA-100.

SECURITY CLASSIFICATION:

Unclassified.

SYSTEM LOCATION:

Office of Inspector General, Environmental Protection Agency, 109 T.W. Alexander Drive, Durham, NC 27711.

SYSTEM MANAGER(S):

Daniel Porter, EPA Office of Inspector General (OIG), Data Analytics Directorate (DAD), Director, 1200 Pennsylvania Avenue NW, Washington, DC 20004, 202-309-6449, porter.daniel@epa.gov.

AUTHORITY FOR MAINTENANCE OF THE SYSTEM:

The Inspector General Act of 1978, as amended, 5 U.S.C. 401-424 (Inspector General Act).

PURPOSE(S) OF THE SYSTEM:

Records contained in OIG Data Analytics Enterprise may be used in the course of performing audits, evaluations, and inspections; investigating individuals and entities suspected of criminal, civil, or administrative misconduct and in supporting related judicial and administrative proceedings; or in conducting preliminary inquiries undertaken to determine whether to commence an audit, evaluation, inspection, or investigation.

CATEGORIES OF INDIVIDUALS COVERED BY SYSTEM:

The EPA OIG maintains records in OIG Data Analytics Enterprise on the following categories of individuals: current, former, and prospective EPA employees; contractors; subcontractors; recipients of Federal funds and their contractors/subcontractors and employees; grantees; sub-grantees; individuals who work on Agency grants (e.g., principal investigators); lessees; licensees; persons engaged in official business with the Agency; or other persons identified by OIG or by other agencies, constituent units of the Agency, and members of the general public, in connection with the authorized functions of the OIG.

CATEGORIES OF RECORDS IN THE SYSTEM:

The OIG Data Analytics Enterprise will contain a wide variety of records to assist OIG staff in carrying out their work. Categories of records may include: information obtained from EPA business systems information, including general ledger data, bank account numbers and transactions, contracting and business ownership data, Electronic Funds Transfer Numbers, customer data, and vendor data; Agency payroll, purchase card, and travel card data; System for Award Management (SAM.gov) data; general case management documentation; correspondence; personally identifiable and business identifiable information, including financial, employment, time and attendance, human resources, and biometric data and Social Security Numbers; information protected by Title 13 of the U.S. Code; trade secrets data and similar proprietary data; import/export data, including Automated Export System data; law enforcement data; data containing information related to Agency grants and contracts, and other data and evidence received, collected, or generated by OIG's Data Analytics group while conducting its official duties. Social Security Numbers are maintained in the system pursuant to authority under the Inspector General Act and are collected or received and maintained in the system as necessary by OIG to carry out its statutory responsibilities under the Inspector General Act.

RECORD SOURCE CATEGORIES:

Records and information stored in this system of records are obtained from both publicly and privately available sources and various systems of records and information systems within the EPA and other Federal, State, and local agencies, Federal contractors, and non-government entities.

ROUTINE USES OF RECORDS MAINTAINED IN THE SYSTEM, INCLUDING CATEGORIES OF USERS AND PURPOSES OF SUCH USES:

The routine uses below are both related to and compatible with the original purpose for which the information was collected. The following general routine uses apply to this system (86 FR 62527): A, B, C, D, E, F, G, H, I, J, K, L, and M.

Additional routine uses that apply to this system are:

1. To any source, private or public, to the extent necessary to secure from such source information relevant to a legitimate EPA investigation, audit, decision, or other inquiry.

2. To a Federal, State, local, Tribal, Territorial, foreign, international, or other public authority in response to its request in connection with: the hiring, assignment, or retention of an individual; the issuance, renewal, retention, or revocation of a security clearance; the reporting of an investigation of an individual; the execution of a security or suitability investigation; the letting of a contract; or the issuance, retention, or revocation of a license, grant, award, contract, or other benefit conferred by that entity to the extent that the information is relevant and necessary to the requesting entity's decision on the matter.

3. To the Department of Justice (DOJ) or any other Federal agency to the extent necessary to obtain their advice relevant to an OIG matter, or that has an interest in the record in connection with determining whether disclosure thereof is required by the Freedom of Information Act (FOIA) (5 U.S.C. 552).

5. To the Department of the Treasury and the Department of Justice when EPA is seeking an ex parte court order to obtain taxpayer information from the Internal Revenue Service.

6. To the news media and public when a public interest justifies the disclosure of information on public events such as indictments or similar activities and such disclosure would not cause an unwarranted invasion of personal privacy.

7. To the public when the matter under audit or investigation has become public knowledge, or when the Inspector General determines that such disclosure is necessary to preserve confidence in the integrity of the OIG audit or investigative process or is necessary to demonstrate the accountability of EPA officers, employees, or individuals covered by this system, unless it is determined that disclosure of the specific information in the context of a particular case could reasonably be expected to constitute an unwarranted invasion of personal privacy.

8. To Members of Congress and the public in the OIG's Semiannual Report to Congress when the Inspector General determines that the matter reported is significant.

9. To a Federal agency responsible for considering suspension or debarment action where such record would be relevant to such action.

10. In response to a lawful subpoena issued by a Federal agency.

11. To a public or professional licensing organization if the record indicates, either by itself or in combination with other information, a violation or potential violation of professional standards, or reflects on the moral, educational, or professional qualifications of an individual who is licensed or who is seeking to become licensed.

12. To any person when disclosure of the record is needed to enable the recipient of the record to take action to recover money or property of the EPA, when such recovery will accrue to the benefit of the United States, or when disclosure of the record is needed to enable the recipient of the record to take appropriate disciplinary action to maintain the integrity of EPA programs or operations.

13. To the Office of Government Ethics to comply with agency reporting requirements in 5 CFR 2638.206.

14. To a foreign government or international organization pursuant to an international treaty, convention, implementing legislation, or executive agreement entered into by the United States.

POLICIES AND PRACTICES FOR STORAGE OF RECORDS:

These records are maintained electronically on computer storage devices managed by the Office of Inspector General, Environmental Protection Agency, 1200 Pennsylvania Avenue NW, Washington, DC 20460. Electronically stored information is hosted at the EPA National Computer Center (NCC), 109 TW Alexander Drive, Research Triangle Park, Durham, NC 27711, in agency-owned cloud and on-premise environments. Paper records are maintained at the Office of the Inspector General at 1200 Pennsylvania Avenue NW, Washington, DC 20460.

POLICIES AND PRACTICES FOR RETRIEVAL OF RECORDS:

Records may be retrieved by search criteria that include names of individuals, names of businesses, identifying particulars, organizations, Social Security Number, EPA ID number, or driver's license number.

POLICIES AND PRACTICES FOR RETENTION AND DISPOSAL OF RECORDS:

Records are retained and disposed of in accordance with EPA Records Retention Schedules approved by the National Archives and Records Administration (NARA).

ADMINISTRATIVE, TECHNICAL, AND PHYSICAL SAFEGUARDS:

Security controls used to protect personal sensitive data in OIG Data Analytics Enterprise are commensurate with those required for an information system rated MODERATE for confidentiality, integrity, and availability, as prescribed in National Institute of Standards and Technology (NIST) Special Publication, 800-53, “Security and Privacy Controls for Information Systems and Organizations,” Revision 5.

1. Administrative Safeguards: All users must take annual mandatory Security Awareness and Privacy training as provided by the Agency. Additionally, staff determined to have significant security responsibilities are also required to complete role-based training (RBT).

2. Technical Safeguards: Access to electronic records is restricted to the OIG staff and contractors individually authorized to access the electronic system. Access is restricted based on assigned roles and responsibilities. Authentication to the system occurs through the Agency's Active Directory Domain Controller. Passwords must meet complexity requirements and are changed periodically, in accordance with OIG policies. Also, all devices that connect to the system use a screen lock; both (screen lock and password) are enforced by Agency policy.

3. Physical Safeguards: Electronic records are stored on servers maintained in a locked facility that is secured at all times. All electronic media are kept in limited-access areas during duty hours and in locked offices during nonduty hours and are used only by authorized screened personnel.

RECORD ACCESS PROCEDURES:

Pursuant to 5 U.S.C. 552a(j)(2), (k)(2), and (k)(5), certain records maintained in the OIG Data Analytics Enterprise are exempt from specific access and accounting provisions of the Privacy Act. See 40 CFR 16.11 and 16.12, However, EPA may, in its discretion, grant individual requests for access if it determines that the exercise of these rights will not interfere with an interest that the exemption is intended to protect. Requests for access must be made in accordance with the procedures described in EPA's Privacy Act regulations at 40 CFR part 16.

CONTESTING RECORD PROCEDURES:

Pursuant to 5 U.S.C. 552a(j)(2), (k)(2), and (k)(5), certain records maintained in the OIG Data Analytics Enterprise are exempt from specific access and accounting provisions of the Privacy Act. See 40 CFR 16.11 and 16.12. However, EPA may, in its discretion, grant individual requests for correction and amendment if it determines that the exercise of these rights will not interfere with an interest that the exemption is intended to protect. Requests for correction and amendment must identify the record to be changed and the correction sought, and must be made in accordance with the procedures described in EPA's Privacy Act regulations at 40 CFR part 16.

NOTIFICATION PROCEDURES:

Individuals who wish to be informed whether a Privacy Act system of records maintained by EPA contains any record pertaining to them, should make a written request to the EPA, Attn: Agency Privacy Officer, MC 2831T, 1200 Pennsylvania Ave. NW, Washington, DC 20460, or by email at: privacy@epa.gov. A full description of EPA's Privacy Act procedures is included in EPA's Privacy Act regulations at 40 CFR part 16.

EXEMPTIONS PROMULGATED FOR THE SYSTEM:

EPA has exempted records maintained in this system from 5 U.S.C. 552a(c)(3) and (4); 5 U.S.C. 552a(d); 5 U.S.C. 552a(e)(1), (2) and (3); 5 U.S.C. 552a(e)(4)(G) and (H); 5 U.S.C. 552a(e)(5) and (8); 5 U.S.C. 552a(f)(2) through (5); and 5 U.S.C. 552a(g) of the Privacy Act pursuant to 5 U.S.C. 552a(j)(2). EPA has also exempted records maintained in this system from 5 U.S.C. 552a(c)(3), 5 U.S.C. 552a(d), 5 U.S.C. 552a(e)(1), 5 U.S.C. 552a(e)(4)(G) and (H) and 5 U.S.C. 552a(f)(2) through (5) of the Privacy Act under 5 U.S.C. 552a(k)(2). EPA has also exempted records maintained in this system from 5 U.S.C. 552a(c)(3) and 5 U.S.C. 552a(d) of the Privacy Act pursuant to 5 U.S.C. 552a(k)(5). An exemption rule for this record system has been promulgated in accordance with the requirements of 5 U.S.C. 553(b)(1), (2), and (3), (c) and (e) and published in 40 CFR part 16. In addition, when exempt records received from other systems of records become part of this system, EPA also claims the same exemptions for those records that are claimed for the prior system(s) of records from which they were a part and claims any additional exemptions set forth here.

HISTORY:

None.

Vaughn Noga,
Senior Agency Official for Privacy.

[FR Doc. 2023-24231 Filed 11-7-23; 8:45 am]

BILLING CODE 6560-50-P